DEPARTMENT OF THE INTERIOR

Office of the Secretary

Vendor Outreach Workshop for Small Information Technology (IT) Businesses in the National Capitol Region of the United States

AGENCY: Office of the Secretary, Interior.

ACTION: Notice.

SUMMARY: The Office of Small and Disadvantaged Business Utilization of the Department of the Interior is hosting a Vendor Outreach Workshop for small IT businesses in the National Capitol region of the United States that are interested in doing business with the Department. This outreach workshop will review market contracting opportunities for the attendees. Business owners will be able to share their individual perspectives with Contracting Officers, Program Managers and Small Business Specialists from the Department.

DATES: The workshop will be held on March 30, 2012 from 7 p.m. to 9 p.m.

ADDRESSES: The workshop will be held at the U.S. Department of the Interior Main Auditorium, 1849 C Street NW., Washington, DC 20240. Register online at: www.doi.gov/osdbu.

FOR FURTHER INFORMATION CONTACT: Mark Oliver, Director, Office of Small and Disadvantaged Business Utilization, 1951 Constitution Ave. NW., MS-320 SIB, Washington, DC 20240, telephone 1 (877) 375-9927 (Toll-Free).

SUPPLEMENTARY INFORMATION: In accordance with the Small Business Act, as amended by Public Law 95-507, the Department has the responsibility to promote the use of small and small disadvantaged business for its acquisition of goods and services. The Department is proud of its accomplishments in meeting its business goals for small, small disadvantaged, 8(a), woman-owned, HUBZone, and service-disabled veteran-owned businesses. In Fiscal Year 2011, the Department awarded over 50 per cent of its $2.7 billion in contracts to small businesses, and in Fiscal Year 2010 also awarded over 50 percent of its $4.4 billion in contracts to small businesses.

This fiscal year, the Office of Small and Disadvantaged Business Utilization is reaching out to our internal stakeholders and the Department's small business community by conducting several vendor outreach workshops. The Department's presenters will focus on contracting and subcontracting opportunities and how small businesses can better market services and products. Over 300 small businesses have been targeted for this event. If you are a small business interested in working with the Department, we urge you to register online at: www.doi.gov/osdbu and attend the workshop.

These outreach events are a new and exciting opportunity for the Department's bureaus and offices to improve their support for small business. Additional scheduled events are posted on the Office of Small and Disadvantaged Business Utilization Web site at www.doi.gov/osdbu.

Mark Oliver,
Director, Office of Small and Disadvantaged Business Utilization.

[FR Doc. 2012-2829 Filed 2-7-12; 8:45 am]

BILLING CODE 4210-RK-P